DEPARTMENT OF ENERGY

Office of Energy Efficiency and Renewable Energy

[Case No. IES-001]

Notice of Petition for Waiver From Acuity Brands From the Department of Energy Illuminated Exit Signs Test Procedure

AGENCY: Office of Energy Efficiency and Renewable Energy, Department of Energy.

ACTION: Notice of petition for waiver and request for public comments.

SUMMARY: This notice announces receipt of a petition from Acuity Brands (Acuity) seeking a waiver from specific portions of the U.S. Department of Energy (DOE) test procedure for determining the energy consumption of illuminated exit signs. Acuity seeks to use an alternate test procedure to address issues involved in testing certain basic models of illuminated exit signs identified in its petition. Acuity contends that its combination illuminated exit signs cannot be accurately tested using the currently applicable DOE test procedure. Although Acuity has proposed an alternate test procedure, DOE is proposing a different alternate test procedure to test and rate specified Acuity basic models in this notice. DOE solicits comments, data, and information concerning Acuity's petition and DOE's proposed alternate test procedure.

DATES: DOE will accept comments, data, and information with respect to the petition received until July 7, 2017.

ADDRESSES: You may submit comments, identified by case number IES-001, by any of the following methods:

• Federal eRulemaking Portal: http://www.regulations.gov. Follow the instructions for submitting comments.

• Email: AS_Waiver_Requests@ee.doe.gov Include the case number [Case No. IES-001] in the subject line of the message.

• Mail: Mr. Bryan Berringer, U.S. Department of Energy, Building Technologies Office, Mailstop EE-2B/1000 Independence Avenue SW., Washington, DC 20585-0121. Telephone: (202) 586-0371. Please submit one signed original paper copy.

• Hand Delivery/Courier: Mr. Bryan Berringer, U.S. Department of Energy, Building Technologies Program, 950 L'Enfant Plaza SW., Room 6055, Washington, DC 20024. Please submit one signed original paper copy.

Docket: For access to the docket to review the background documents relevant to this matter, you may visit http://www.regulations.gov. All documents in the docket are listed in the www.regulations.gov index. However, some documents listed in the index, such as those containing information that is exempt from public disclosure, may not be publicly available.

FOR FURTHER INFORMATION CONTACT: Mr. Bryan Berringer, U.S. Department of Energy, Building Technologies Program, Mail Stop EE-5B, Forrestal Building, 1000 Independence Avenue SW., Washington, DC 20585-0121. Telephone: (202) 586-0371. Email: AS_Waiver_Requests@ee.doe.gov.

Ms. Jennifer Tiedeman, U.S. Department of Energy, Office of the General Counsel, Mail Stop GC-33, 1000 Independence Avenue SW., Washington, DC 20585-0121. Telephone: (202) 287-6111. Email: Jennifer.Tiedeman@hq.doe.gov.

SUPPLEMENTARY INFORMATION: In an updated petition received on March 22, 2016 (initially submitted on April 17, 2013) and in an email received on May 1, 2017, Acuity requested that DOE grant a test procedure waiver for specified models of illuminated exit signs that cannot be tested under the existing DOE test procedure. The basic models of illuminated exit signs at issue are models typically known as combination illuminated exit signs. These basic models include components such as egress lighting or alarms that typically require a larger battery to power the auxiliary features, which causes the test procedure to provide inaccurate comparative data.

I. Background and Authority

Title III, Part B ¹ of the Energy Policy and Conservation Act of 1975 (“EPCA”), Public Law 94-163 (42 U.S.C. 6291-6309, as codified) established the Energy Conservation Program for Consumer Products Other Than Automobiles, a program that includes illuminated exit signs.² Part B includes definitions, test procedures, labeling provisions, energy conservation standards, and the authority to require information and reports from manufacturers. Further, Part B authorizes the Secretary of Energy to prescribe test procedures that are reasonably designed to produce results that measure energy efficiency, energy use, or estimated operating costs during a representative average-use cycle, and that are not unduly burdensome to conduct. (42 U.S.C. 6293(b)(3)) The test procedure for illuminated exit signs is contained in 10 CFR part 431, subpart L.³

¹ For editorial reasons Part B of title III was redesignated as Part A upon incorporation into the U.S. Code.

² All references to EPCA refer to the statute as amended through the Energy Efficiency Improvement Act of 2015, Public Law 114-11 (April 30, 2015).

³ Although illuminated exit signs are covered products pursuant to EPCA, as a matter of administrative convenience and to minimize confusion among interested parties, DOE adopted illuminated exit sign provisions into subpart L of 10 CFR part 431 (the portion of DOE's regulations dealing with commercial and industrial equipment) because typically businesses, rather than individuals, purchase them. 70 FR 60407, 60409 (Oct. 18, 2005). DOE refers to illuminated exit signs as either “products” or “equipment.”

The regulations set forth in 10 CFR 431.401 contain provisions that allow a person to seek a waiver from the test procedure requirements for a particular basic model of a type of covered product when the petitioner's basic model for which the petition for waiver was submitted contains one or more design characteristics that: (1) Prevent testing according to the prescribed test procedure, or (2) cause the prescribed test procedures to evaluate the basic model in a manner so unrepresentative of its true energy consumption characteristics as to provide materially inaccurate comparative data. 10 CFR 431.401(a)(1) A petitioner must include in its petition any alternate test procedures known to the petitioner to evaluate the basic model in a manner representative of its energy consumption. 10 CFR 431.401(b)(1)(iii)

DOE may grant a waiver subject to conditions, including adherence to alternate test procedures. 10 CFR 431.401(f)(2) As soon as practicable after the granting of any waiver, DOE will publish in the Federal Register a notice of proposed rulemaking to amend its regulations so as to eliminate any need for the continuation of such waiver. As soon thereafter as practicable, DOE will publish in the Federal Register a final rule. 10 CFR 431.401(l).

DOE discusses the petition and alternate test procedures in the following sections.

II. Petition for Waiver of Test Procedure

On March 22, 2016, Acuity filed an updated petition for a waiver (the initial petition was submitted on April 17, 2013) for certain basic models of illuminated exit signs that are required to be tested according to test procedures detailed in 10 CFR 431.204. (Acuity, No. 0002 at pp. 1-3) ⁴ Acuity supplemented its filing with an email submitted to DOE on May 1, 2017, that further clarified the specific basic models for which the waiver is being requested.⁵ Acuity has requested a waiver for basic models that provide the dual function of exit signage and lighting for emergency egress (combination illuminated exit signs), stating that the battery used in combination illuminated exit signs requires a substantially larger capacity to provide a minimum of 90 minutes of egress lighting, as required by safety codes. Acuity has further stated that it is not feasible to separate the power measurement associated with the exit signage and the egress lighting because a single battery and charging circuit supplies power for both functions.

⁴ A notation in this form provides a reference for information that is in the docket for this test procedure waiver (Docket No. EERE-2017-BT-WAV-0033) (available at https://www.regulations.gov/docket?D=EERE-2017-BT-WAV-0033). This notation indicates that the statement preceding the reference is document number 2 in the docket and appears at pages 1-3 of that document.

⁵ The following are the basic models of combination LED exit signs for which Acuity seeks a test procedure waiver: ECG 1F, ECG 1F HO, ECG 2F, ECG 2F HO, ECR 1F, ECR 1F HO, ECR 2F, ECR 2F HO, ECG LED 1F HO, ECG LED 2F HO, ECR LED 1F HO, ECR LED 2F HO, ECG LED 1F, ECG LED 2F, ECR LED 1F, ECR LED 2F, ECBG LED 1F, ECBG LED 2F, ECBR LED 1F, ECBR LED 2F, LHD2D18G, LHD2D18R, LHD2D36G, LHD2D36R, LHD2D72G, LHD2D72R, LHD2S18G, LHD2S18R, LHD2S36G, LHD2S36R, LHD2S72G, LHD2S72R, LHQM LED 1F HO GREEN, LHQM LED 1F HO RED, LHQM LED 2F HO GREEN, LHQM LED 2F HO RED, LHQM LED 1F GREEN, LHQM LED 1F RED, LHQM LED 2F GREEN, LHQM LED 2F RED, LHXNY W 1 R, LHXC W 1 RW, LHXC W 2 RW, LHZ618 GREEN, LHZ618 RED, LHZ636 GREEN, LHZ636 RED, LHZ672 GREEN, LHZ672 RED, QM LED 1F GREEN, QM LED 1F HO GREEN, QM LED 1F RED, QM LED 1F HO RED, QM LED 2F GREEN, QM LED 2F HO GREEN, QM LED 2F RED, QM LED 2F HO RED, NXPCL 1F, and NXPCL 2F.

As an alternative to the test procedure currently in place at 10 CFR part 431, subpart L, Acuity has recommended that, for combination illuminated exit signs, the power should be determined using the following procedure:

(1) Measure input power, which is the total power supplied to the combination illuminated exit sign including the charging circuit and light source(s) for the exit sign face(s). Note: The egress lights will not be operational in this mode because they are designed to only operate under a condition when the unit is not receiving power.

(2) Determine the total battery power, with the battery circuit connected and fully charged before any measurements are made.

total battery power = input power−rated wattage of light source(s) for exit sign

(3) Determine the battery proration factor.

battery proration factor = (rated wattage of light source(s) for exit sign)/(rated wattage of light sources(s) for egress lighting + rated wattage of light source(s) for exit sign)

(4) Calculate the combination illuminated exit sign power.

combination illuminated exit sign power = (battery proration factor × total battery power) + rated wattage of light source(s) for exit sign

Acuity seeks a test procedure waiver for specified basic models (see footnote and Table III.1). Acuity also requested that any new products introduced by the company into commerce that provide the dual function of exit signage and emergency egress lighting be covered by the waiver. DOE regulations at 10 CFR 430.27(f)(2) provide that DOE may grant a waiver, including adherence to alternate test procedures, only for “the basic model(s) for which the waiver was requested.” Acuity may request to extend the scope of a waiver to additional basic models pursuant to 10 CFR 431.401(g) by identifying the particular basic models for which a waiver is requested, but the present waiver, if granted, would extend to only those basic models identified in the updated waiver petition currently under consideration.

III. Alternate Test Procedure

Upon review of the alternate test procedure submitted by Acuity in its petition for wavier, DOE found that “rated wattage of light source(s)” associated with the face and egress light source(s), respectively, is not always well documented in Acuity's product literature for the basic models under consideration. A lack of data in the manufacturer data sheet with respect to the wattage of the light source(s) prevents the accurate and repeatable calculation of the combination illuminated exit sign input power demand in Acuity's proposed test procedure. Therefore, DOE is proposing alternate test procedures that provide methods to test and rate the basic models at issue without the rated wattage of the light source(s).

DOE investigated various approaches to isolate the input power used to illuminate only the exit sign portion of a combination exit sign: Including disconnecting the battery; scaling or prorating the portion of the input power demand associated with the battery; and measuring alternative power quantities as a proxy for input power demand. DOE tentatively concluded that these methods would require isolating the battery power used to illuminate the faces of the exit sign from the battery power used to operate auxiliary features. Based on DOE's review of combination exit signs, DOE has tentatively determined that it is either not possible to measure the required quantities or that doing so would require cutting of wires and modifying the circuitry of the combination exit sign.

DOE reviewed the basic models submitted in Acuity's petition for waiver and updated basic model list provided in Acuity's email submitted to DOE on May 1, 2017, and determined that the basic models in the waiver are comprised of two sub-varieties: (A) Combination illuminated exit signs with equivalent non-combination versions ⁶ and (B) Combination illuminated exit signs without equivalent non-combination versions. Table III.1 provides a review of the combination illuminated exit sign basic models submitted by Acuity for waivers, and notes DOE's proposed alternate test method, described in detail below.

⁶ DOE uses the term “equivalent non-combination illuminated exit sign” in this notice to mean an illuminated exit sign that consists of electric consuming components and a battery identical to those of the combination illuminated exit sign at issue, but that does not have any auxiliary features. The equivalent non-combination illuminated exit sign must also have the same manufacturer and number of faces as the combination exit sign whose input power demand is being determined.

Table III.1—Review of Combination Illuminated Exit Sign Basic Models Submitted by Acuity
Acuity basic model * | Equivalent non-combination illuminated exit sign * | DOE's proposed alternate test method
Lithonia Lighting brand models: ECG 1F, ECG 1F HO, ECG 2F, ECG 2F HO, ECR 1F, ECR 1F HO, ECR 2F, ECR 2F HO | No | Method B.
Lithonia Lighting brand models: ECG LED 1F HO, ECG LED 2F HO, ECR LED 1F HO, ECR LED 2F HO | No | Method B.
Lithonia Lighting brand models: ECG LED 1F, ECG LED 2F, ECR LED 1F, ECR LED 2F | Yes | Method A.
Lithonia Lighting brand models: ECBG LED 1F, ECBG LED 2F, ECBR LED 1F, ECBR LED 2F | No | Method B.
Holophane brand models: LHD2D18G, LHD2D18R, LHD2D36G, LHD2D36R, LHD2D72G, LHD2D72R, LHD2S18G, LHD2S18R, LHD2S36G, LHD2S36R, LHD2S72G, LHD2S72R | No | Method B.
Lithonia Lighting brand models: LHQM LED 1F HO GREEN, LHQM LED 1F HO RED, LHQM LED 2F HO GREEN, LHQM LED 2F HO RED | Yes | Method A.
Lithonia Lighting brand models: LHQM LED 1F GREEN, LHQM LED 1F RED, LHQM LED 2F GREEN, LHQM LED 2F RED | No | Method B.
Lithonia Lighting brand model: LHXNY W 1 R | No | Method B.
Lithonia Lighting brand models: LHXC W 1 RW, LHXC W 2 RW | No | Method B.
Lithonia Lighting brand models: LHZ618 GREEN, LHZ618 RED, LHZ636 GREEN, LHZ636 RED, LHZ672 GREEN, LHZ672 RED | Yes | Method A.
Holophane brand models: QM LED 1F GREEN, QM LED 1F HO GREEN, QM LED 1F RED, QM LED 1F HO RED, QM LED 2F GREEN, QM LED 2F HO GREEN, QM LED 2F RED, QM LED 2F HO RED | Yes | Method A.
Navilite brand models: NXPCL 1F, NXPCL 2F | Yes | Method A.
* All Acuity basic models listed in the table above are illuminated exit signs manufacturered exclusively with LEDs.

For these two sub-varieties, DOE presents the two alternate test methods, test method A and test method B, in the following sections.

A. Test Method for Combination Illuminated Exit Sign Basic Models With Equivalent Non-Combination Illuminated Exit Signs (Method A)

DOE has determined that for Acuity combination illuminated exit sign basic models ECG LED 1F, ECG LED 2F, ECR LED 1F, ECR LED 2F, LHQM LED 1F HO GREEN, LHQM LED 1F HO RED, LHQM LED 2F HO GREEN, LHQM LED 2F HO RED, LHZ618 GREEN, LHZ618 RED, LHZ636 GREEN, LHZ636 RED, LHZ672 GREEN, LHZ672 RED, QM LED 1F GREEN, QM LED 1F HO GREEN, QM LED 1F RED, QM LED 1F HO RED, QM LED 2F GREEN, QM LED 2F HO GREEN, QM LED 2F RED, QM LED 2F HO RED, NXPCL 1F, and NXPCL 2F it is not possible to keep the face(s) illuminated while disconnecting the battery and all auxiliary features in a manner that permits reinstallation using only the original parts in order to allow for the measurement of only the input power required to illuminate the face(s). However, DOE has determined that these models have equivalent non-combination illuminated exit sign models. For these basic models, DOE is considering the following alternate test method (method A):

(1) Identify a non-combination illuminated exit sign equivalent to the combination illuminated exit sign under test. A unit is an equivalent non-combination substitute only if it consists entirely of components identical to all of those of the unit whose input power demand is being determined, but does not include any auxiliary features, and contains an electrically connected battery. The equivalent unit must also have the same manufacturer and number of faces as the unit whose input power demand is being determined.

(2) Assign the input power demand of the combination illuminated exit sign under test as the input power demand of the equivalent non-combination illuminated exit sign.

B. Test Method for Combination Illuminated Exit Sign Basic Models Without Equivalent Non-Combination Illuminated Exit Signs (Method B)

DOE has determined that for Acuity combination illuminated exit sign basic models ECG 1F, ECG 1F HO, ECG 2F, ECG 2F HO, ECR 1F, ECR 1F HO, ECR 2F, ECR 2F HO, ECG LED 1F HO, ECG LED 2F HO, ECR LED 1F HO, ECR LED 2F HO, ECBG LED 1F, ECBG LED 2F, ECBR LED 1F, ECBR LED 2F, LHD2D18G, LHD2D18R, LHD2D36G, LHD2D36R, LHD2D72G, LHD2D72R, LHD2S18G, LHD2S18R, LHD2S36G, LHD2S36R, LHD2S72G, LHD2S72R, LHQM LED 1F GREEN, LHQM LED 1F RED, LHQM LED 2F GREEN, LHQM LED 2F RED, LHXNY W 1 R, LHXC W 1 RW, and LHXC W 2 RW it is not possible to keep the face(s) illuminated while disconnecting the battery and all auxiliary features in a manner that permits reinstallation using only the original parts to allow for the measurement of only the input power required to illuminate the face(s). DOE has also determined that these models do not have equivalent non-combination illuminated exit sign models, rendering method A inapplicable. For these basic models, DOE is considering the following alternate test method (method B):

If the combination illuminated exit sign under test uses only LEDs to illuminate all face(s) of the unit, assign an input power demand according to the following formula:

input power demand = 5 watts × number of faces ⁷

⁷ This method requires determination of the number of faces for each basic model. Face count is the number of faces (no fewer than one) with which an illuminated exit sign basic model can be configured by an end user when all electric light sources are connected and energized.

IV. Summary and Request for Comments

Through this notice, DOE is publishing Acuity's petition for waiver pursuant to 10 CFR 431.401(b)(1)(iv). The petition contains no confidential information. The petition includes a description of why DOE's test procedure produces inaccurate results for certain models of combination illuminated exit signs and a recommended alternate test procedure, applicable to the measurement of energy efficiency of the models of combination illuminated exit signs specified by Acuity in its petition for waiver. In this notice, DOE proposes a different test method for determining the energy efficiency of the combination illuminated exit signs included in Acuity's waiver.

DOE solicits comments from interested parties on all aspects of the petition, the test method recommended by Acuity, DOE's stated concerns regarding that test method, and DOE's proposed test procedure. Pursuant to 10 CFR 431.401(d), any person submitting written comments to DOE must also send a copy of such comments to the petitioner. The contact information for the petitioner is: Cheryl English, VP, Government & Industry Relations, Acuity Brands Lighting, Inc., One Lithonia Way, Conyers, GA 30012. All submissions received must include the case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies: One copy of the document including all the information believed to be confidential, and one copy of the document with the information believed to be confidential deleted. DOE will make its own determination about the confidential status of the information and treat it according to its determination.

Issued in Washington, DC, on May 26, 2017.
Kathleen B. Hogan,
Deputy Assistant Secretary for Energy Efficiency, Energy Efficiency and Renewable Energy.

Date: 3/22/2016

Subject: Acuity Brands Updated Petition for Test Procedure Waiver for Illuminated Exit Signs

Upon request by DOE, Acuity Brands is updating the petition request submitted on 4/17/2013 for test procedure waiver for Illuminated Exit Signs pursuant to 10 CFR 431.401 to clarify that the petition is for a final test procedure waiver for certain models of illuminated exit signs.

The petition is on the grounds that the basic models contain design characteristics which prevent testing of the basic models according to the prescribed test procedures and that the prescribed test procedures evaluate the basic models in a manner unrepresentative of their true energy consumption characteristics and provide materially inaccurate comparative data.

Background

Illuminated Exit Signs are covered under the Energy Policy & Conservation Act (EPCA) as amended by Section 135 of the Energy Policy Act of 2005 (EPAct 2005). This product category was included in EPA's Energy Star program and the intent of the EPAct 2005 amendment was to make the Energy Star program's product regulated by EPCA. The test procedures adopted by Congress for this product category is the Energy Star program (v. 2.0) test procedures, and the energy conservation standards are the performance requirements for the Energy Star program (v. 2.0). See 42 U.S.C. 6293(b)(9) and 6295(w).

When Illuminated Exit Signs were included in EPAct 2005, the industry interpretation was based on a scope consistent with the Energy Star program covering products that provided only the functional characteristics defined in the regulation to illuminate the signage itself, with no expressed intent to also regulate energy used for emergency egress lighting. The statutory definition of illuminated exit sign (10 CFR 431.202) includes the phrase “consists of electrically powered integral light source that—(i) illuminates the legend `EXIT' and any directional indica-tors . . .”

Certain basic models of illuminated exit signs provide the dual function of exit signage and lighting for emergency egress (combo unit). However, the battery used in a combo unit requires a substantially larger capacity to provide a minimum of 90 minutes of egress lighting as required by life safety code, as well as illuminating the EXIT legend and directional indicators. Because of this, the test procedures when applied to a combo unit do not accurately represent the energy consumption associated with illuminating the exit sign legend.

See the following Web site for figures of the “Standard Illuminated Exit Sign” and “Combo unit” Illuminated Exit Sign and Egress Light”: http://www.regulations.gov/#!docketDetail;D=EERE-2017-BT-WAV-0033

Basic Models Requested for Test Procedure Waiver

The following Acuity Brands basic models are submitted under the conditions of this waiver:

EC, ECB, LHD2, LHQM, LHX, LHXC, LHZ, QM, NNYXSC, NX (NavLite combo)

(covering all lettering colors, housing material, source type or other options for each basic model)

Furthermore, Acuity Brands petitions that any new products introduced by Acuity Brands into commerce that provide the dual function of exit signage and emergency egress lighting will also be covered by the waiver.

Test Procedure Issues

A combo unit utilizes a higher capacity battery to power both the exit sign face(s) as well as emergency egress lighting during a power outage. While § 431.202 indicates that the input power demand shall be measured with batteries at full charge, the higher capacity dual function battery for a combo unit results in a higher power than a smaller battery utilized in a unit that provides only the exit signage functionality.

The performance specification for the input power described in the Energy Star specifications limits the power to illuminate the face of the exit sign with no reference to power associated with the emergency egress lighting. The test procedure for Energy Star 2.0 requires the measurement of power including the internal battery, but the power limits were not established using a baseline for units that provide the dual function associated with a combo unit. For a combo unit, it is not feasible to separate the power measurement associated with the exit signage and the egress lighting since a single battery and charging circuit supplies power for both functions.

Alternate Test Procedure for Combo Units

There are no nationally recognized test procedures to measure the power for a combo unit that describes the power associated only with illuminating the face(s) of the exit sign. Therefore Acuity Brands is submitting the following alternate test procedure to accurately represent the power of a combo unit used to illuminating the legend `EXIT', directional indicators and proportional battery power for the face(s) of the exit sign.

For combination exit and egress lighting units (combo units), the power shall be determined by the following procedure:

1. Measure input power, the total power supplied to the combo unit including the charging circuit and light source(s) for the exit sign face(s). Note: The egress lights will not be operational in this mode since they are designed to only operate under a condition when the unit is not receiving power.

2. Determine the total battery power, with the battery circuit connected and fully charged before any measurements are made.

total battery power = input power−rated wattage of light source(s) for exit sign

3. Determine the battery proration factor:

Battery proration factor = rated wattage of light source(s) for exit sign (rated wattage of light sources(s) for egress lighting + rated wattage of light source(s) for exit sign)

4. Calculate the combo unit power:

Combo unit power = (Battery proration factor × total battery power) + rated wattage of light source(s) for exit sign

Conclusion

Acuity Brands is submitting this request for a test procedure waiver for combo units that provide the dual function of exit signage and emergency egress lighting. The waiver request has outlined that:

1. The prescribed test procedures are based on power intended only to illuminate the face of the exit sign and will evaluate the basic models of combo units in a manner unrepresentative of their true energy consumption characteristics

2. the prescribed test procedures will evaluate the basic models of combo units in a manner that results in materially inaccurate comparative data, and

3. there are no existing industry standards that define test procedures to measure the energy consumption characteristics for a combo unit that is associated with only the exit sign face(s), and

4. the alternate test procedure proposed by Acuity Brands for combo units will accurately describe the power to illuminate the face of the exit and the proportion of battery charging circuit power used to illuminate the face(s) of the exit during a power outage.

Based on DOE general counsel guidance on waivers issued December 23, 2010, it is our understanding that DOE has made a commitment to (1) act promptly on waiver requests and to update its test procedures to address granted waivers going forward and (2) prevent the administrative waiver process from delaying or deterring the introduction of novel, innovative products into the marketplace and as a matter of enforcement policy will refrain from enforcement actions related to pending waiver requests.

Thank you in advance for your prompt consideration of this waiver request.

Cheryl English

VP, Government & Industry Relations

Acuity Brands Lighting, Inc., One Lithonia Way, Conyers, GA 30012, 770-860-2660, Cheryl.English@AcuityBrands.com.

[FR Doc. 2017-11790 Filed 6-6-17; 8:45 am]

BILLING CODE 6450-01-P